DEPARTMENT OF THE TREASURY

Internal Revenue Service

26 CFR Parts 1 and 31

[REG-130074-11]

RIN 1545-BK54

Rules Relating to Additional Medicare Tax; Hearing Cancellation

AGENCY: Internal Revenue Service (IRS), Treasury.

ACTION: Cancellation of notice of public hearing on proposed rulemaking.

SUMMARY: This document cancels a public hearing on proposed regulations under sections 3101(b), 3102, 3202(a), 1401(b), 6205, and 6402 of the Internal Revenue Code; relating to the Additional Hospital Insurance Tax on income above threshold amounts as added by the Affordable Care Act.

DATES: The public hearing originally scheduled for April 4, 2013 at 10 a.m. is cancelled.

FOR FURTHER INFORMATION CONTACT: Oluwafunmilayo Taylor of the Publications and Regulations Branch, Legal Processing Division, Associate Chief Counsel (Procedure and Administration) at (202) 622-7180 (not a toll-free number).

SUPPLEMENTARY INFORMATION: A notice of proposed rulemaking and a notice of public hearing that appeared in the Federal Register on Wednesday, December 5, 2012 (77 FR 72268) announced that a public hearing was scheduled for April 4, 2013, at 10 a.m. in the IRS Auditorium, Internal Revenue Building, 1111 Constitution Avenue NW., Washington, DC. The subject of the public hearing is under sections 3101(b), 3102, 3202(a), 1401(b), 6205, and 6402 of the Internal Revenue Code.

The public comment period for these regulations expired on March 5, 2013. The notice of proposed rulemaking and notice of public hearing instructed those interested in testifying at the public hearing to submit a request to speak and an outline of the topics to be addressed. As of Monday, March 18, 2013, no one has requested to speak. Therefore, the public hearing scheduled for April 4, 2013, is cancelled.

LaNita VanDyke,
Chief, Publications and Regulations Branch, Legal Processing Division, Associate Chief Counsel, (Procedure and Administration).

[FR Doc. 2013-06557 Filed 3-21-13; 8:45 am]

BILLING CODE 4830-01-P